DEPARTMENT OF TRANSPORTATION

National Highway Traffic Safety Administration

[Docket No. NHTSA-2014-0034; Notice 1]

Maserati S.p.A and Maserati North America, Inc., Receipt of Petition for Decision of Inconsequential Noncompliance

AGENCY: National Highway Traffic Safety Administration (NHTSA), Department of Transportation (DOT).

ACTION: Receipt of Petition.

SUMMARY: Maserati S.p.A and Maserati North America, Inc. (collectively referred to as “MNA”) has determined that certain MY 2011-2014 Maserati passenger vehicles do not fully comply with paragraph S4.4(c)(2), of Federal Motor Vehicle Safety Standard (FMVSS) No. 138, Tire Pressure Monitoring Systems. MNA has filed an appropriate report dated March 3, 2014, pursuant to 49 CFR part 573, Defect and Noncompliance Responsibility and Reports.

DATES: The closing date for comments on the petition is October 8, 2015.

ADDRESSES: Interested persons are invited to submit written data, views, and arguments on this petition. Comments must refer to the docket and notice number cited at the beginning of this notice and submitted by any of the following methods:

• Mail: Send comments by mail addressed to: U.S. Department of Transportation, Docket Operations, M-30, West Building Ground Floor, Room W12-140, 1200 New Jersey Avenue SE., Washington, DC 20590.

• Hand Deliver: Deliver comments by hand to: U.S. Department of Transportation, Docket Operations, M-30, West Building Ground Floor, Room W12-140, 1200 New Jersey Avenue SE., Washington, DC 20590. The Docket Section is open on weekdays from 10 a.m. to 5 p.m. except Federal Holidays.

• Electronically: Submit comments electronically by: logging onto the Federal Docket Management System (FDMS) Web site at http://www.regulations.gov/. Follow the online instructions for submitting comments. Comments may also be faxed to (202) 493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated above will be filed and will be considered. All comments and supporting materials received after the closing date will also be filed and will be considered to the extent possible. When the petition is granted or denied, notice of the decision will be published in the Federal Register pursuant to the authority indicated below.

SUPPLEMENTARY INFORMATION:

I. MNA's Petition

Pursuant to 49 U.S.C. 30118(d) and 30120(h) and the rule implementing those provisions at 49 CFR part 556, MNA submitted a petition for an exemption from the notification and remedy requirements of 49 U.S.C. Chapter 301 on the basis that this noncompliance is inconsequential to motor vehicle safety.

This notice of receipt of MNA's petition is published under 49 U.S.C. 30118 and 30120 and does not represent any agency decision or other exercise of judgment concerning the merits of the petition.

II. Vehicles Involved

Affected are approximately 8,789 MY 2011-2013 Maserati Quattroporte and 2011-2014 Maserati Granturismo/Granturismo Convertible passenger vehicles.

III. Noncompliance

MNA explains that the noncompliance is that when the vehicle's TPMS detects a missing or inactive wheel sensor the vehicles do not fully comply with paragraph S4.4(c)(2) of FMVSS No. 138 because the malfunction indicator does not always illuminate as required.

Specifically, after the car's ignition is switched to the on position, the TPMS immediately seeks to confirm if all wheel sensors are present. If the TPMS then detects a sensor is not present, an internal timer is started. If the sensor detected as missing was also detected as missing during the previous ignition cycle, and the engine is not restarted, then the TPMS malfunction indicator will illuminate as required to indicate a hardware fault is still present. If the engine is then started and left in its steady state (engine not cold) idle, the warning lamp will continue to remain illuminated as required. However, if the car is then driven, the warning lamp will extinguish [in violation of the standard] as the system prepares to confirm that all wheel sensors are fitted to the vehicle. Once the vehicle has been moving above 22 mph for a period of 15 seconds the TPMS will seek to confirm that all wheel sensors are fitted to the vehicle. If the internal timer reaches 160 seconds, and the vehicle has been moving above 22 mph for 15 seconds, the TPMS malfunction indicator will illuminate correctly. Once the malfunction indicator is illuminated, it remains so throughout that ignition cycle, regardless of the vehicle's speed.

Rule Text: Paragraph S4.4(c)(2) of FMVSS No. 138 requires in pertinent part:

S4.4 TPMS Malfunction.

(c) Combination low tire pressure/TPMS malfunction telltale. The vehicle meets the requirements of S4.4(a) when equipped with a combined Low Tire Pressure/TPMS malfunction telltale that:

(2) Flashes for a period of at least 60 seconds but no longer than 90 seconds upon detection of any condition specified in S4.4(a) after the ignition locking system is activated to the “On” (“Run”) position. After each period of prescribed flashing, the telltale must remain continuously illuminated as long as a malfunction exists and the ignition locking system is in the “On” (“Run”) position. This flashing and illumination sequence must be repeated each time the ignition locking system is placed in the “On” (“Run”) position until the situation causing the malfunction has been corrected . . .

V. Summary of MNA's Analyses

MNA stated its belief that the subject noncompliance is inconsequential to motor vehicle safety for the following reasons:

(A) MNA states that the malfunction indicator will illuminate no later than 160 seconds after the vehicle's ignition is switched on, and the car has traveled above 22 mph for at least 15 seconds.

(B) MNA also states that if the TPMS fails to detect the wheel sensors, the TPMS will display on the TPMS pressures screen contained within the instrument cluster no value for the tire pressure, indicating that the status of the wheel sensor is unconfirmed.

(C) MNA further stated that the primary function of the TPMS is not affected by the noncompliance and the vehicle will operate as intended. Adding, that the noncompliance is confined to one particular aspect of the functionality of an otherwise compliant TPMS malfunction indicator and that all other aspects of the low-pressure monitoring system functionality are fully compliant with the requirements of FMVSS No. 138. Along with this argument, MNA also made mention that on April 8, 2005, NHTSA published a rule where it states “A TPMS malfunction does not itself represent a safety risk to vehicle occupants, and we expect that the chances of having a TPMS malfunction and a significantly under-inflated tire at the same time are unlikely.”

(D) MNA says that NHTSA has previously granted petitions for Inconsequential Non-Compliances pertaining to FMVSS No. 138, Tire Pressure Monitoring System (TPMS), in which the monitoring system would not illuminate in the manner required by FMVSS No. 138 due to a software malfunction.

(E) MNA is not aware of any customer complaints, field communications, incidents or injuries related to this condition.

MNA has additionally informed NHTSA that all unsold vehicles in MNA's custody and control will have a reprogramming of the TPMS Electronic Control Unit prior to sale.

In summation, MNA believes that the described noncompliance of the subject vehicles is inconsequential to motor vehicle safety, and that its petition, to exempt MNA from providing recall notification of noncompliance as required by 49 U.S.C. 30118 and remedying the recall noncompliance as required by 49 U.S.C. 30120 should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that MNA no longer controlled at the time it determined that the noncompliance existed. However, any decision on this petition does not relieve vehicle distributors and dealers of the prohibitions on the sale, offer for sale, or introduction or delivery for introduction into interstate commerce of the noncompliant vehicles under their control after MNA notified them that the subject noncompliance existed.

Authority: 49 U.S.C. 30118, 30120: delegations of authority at 49 CFR 1.95 and 501.8.

Jeffrey Giuseppe,
Director, Office of Vehicle Safety Compliance.

[FR Doc. 2015-22569 Filed 9-4-15; 8:45 am]

BILLING CODE 4910-59-P